DEPARTMENT OF DEFENSE

Office of the Secretary

Renewal of Department of Defense Federal Advisory Committees

AGENCY: Department of Defense.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Department of Defense Audit Advisory Committee (hereafter referred to as the Committee).

The Committee shall provide the Secretary of Defense, through the Under Secretary of Defense (Comptroller)/Chief Financial Officer, independent advice on DoD financial management, including the financial reporting process, systems of internal controls, audit processes and processes for monitoring compliance with applicable laws and regulations. In accordance with DoD policy and procedures, the Under Secretary of Defense (Comptroller)/Chief Financial Officer is authorized to act upon the advice emanating from this advisory committee.

The Committee shall be comprised of no more than seven members who are distinguished members of the audit, accounting and financial communities. Committee members appointed by the Secretary of Defense, who are not full-time federal officers or employees, shall be appointed as experts and consultants under the authority of 5 U.S.C. 3109, and serve as Special Government Employees.

The Committee, in keeping with DoD policy will make every effort to achieve a balanced membership, including a cross section of experts directly affected, interested and qualified to advice on financial and audit matters. Committee members shall be appointed on an annual basis by the Secretary of Defense, and with the exception of travel and per diem for official travel, shall serve without compensation. The Under Secretary of Defense (Comptroller)/Chief Financial Officer shall select the committee's chairperson from the committee's membership at large.

FOR FURTHER INFORMATION CONTACT: Contact Jim Freeman, Deputy Committee Management Officer for the Department of Defense, 703-601-6128.

SUPPLEMENTARY INFORMATION: The Committee shall meet at the call of the committee's Designated Federal Officer, in consultation with the Chairperson, and the estimated number of committee meetings is four per year. The Designated Federal Officer, pursuant to DoD policy, shall be a full-time or permanent part-time DoD employee, and shall be appointed in accordance with established DoD policies and procedures. The Designated Federal Officer or duly appointed Alternate Designated Federal Officer shall attend all committee meetings and subcommittee meetings.

The Committee shall be authorized to establish subcommittees, as necessary and consistent with its mission, and these subcommittees or working groups shall operate under the provisions of the Federal Advisory Committee Act of 1972, the Sunshine in the Government Act of 1976, and other appropriate federal regulations.

Such subcommittees or workgroups shall not work independently of the chartered committee, and shall report all their recommendations and advice to the Committee for full deliberation and discussion. Subcommittees or workgroups have no authority to make decisions on behalf of the chartered committee nor can they report directly to the Department of Defense or any federal officers or employees who are not members of the Committee.

Pursuant to 41 CFR 102-3.105(j) and 102-3.140, the public or interested organizations may submit written statements to the Committee membership about the Committee's mission and functions. Written statements may be submitted at any time or in response to the stated agenda of planned meeting of the Committee.

All written statements shall be submitted to the Designated Federal Officer for the Committee, and this individual will ensure that the written statements are provided to the membership for their consideration. Contact information for the Department of Defense Audit Advisory Committee's Designated Federal Officer can be obtained from the GSA's FACA Database— https://www.fido.gov/facadatabase/public.asp.

The Designated Federal Officer, pursuant to 41 CFR 102-3.150, will announce planned meetings of the Committee. The Designated Federal Officer, at that time, may provide additional guidance on the submission of written statements that are in response to the stated agenda for the planned meeting in question.

Dated: May 20, 2009.
Morgan E. Frazier,
Alternate OSD Federal Register Liaison Officer, Department of Defense.

[FR Doc. E9-12500 Filed 5-28-09; 8:45 am]

BILLING CODE 5001-06-P